JUDICIAL CONFERENCE OF THE UNITED STATES

Hearings of the Judicial Conference Advisory Committee on Rules of Bankruptcy Procedure; Federal Register Citation of Previous Announcement: 78FR 49768

AGENCY: Advisory Committee on Rules of Bankruptcy Procedure, Judicial Conference of the United States.

ACTION: Notice of Cancellation of Open Hearing.

SUMMARY: The following public hearing on proposed amendments to the Federal Rules of Bankruptcy Procedure has been canceled: Bankruptcy Rules Hearing, January 17, 2014, Chicago, IL.

FOR FURTHER INFORMATION CONTACT: Jonathan C. Rose, Secretary and Chief Rules Officer, Rules Committee Support Office, Administrative Office of the United States Courts, Washington, DC 20544, telephone (202) 502-1820.

Dated: December 18, 2013.
Jonathan C. Rose,
Secretary and Chief Rules Officer.

[FR Doc. 2013-30490 Filed 12-20-13; 8:45 am]

BILLING CODE 2210-55-P